FEDERAL TRADE COMMISSION

Agency Information Collection Activities; Proposed Collection; Comment Request; Extension

AGENCY: Federal Trade Commission.

ACTION: Notice.

SUMMARY: In accordance with the Paperwork Reduction Act of 1995 (“PRA”), the Federal Trade Commission (“FTC” or “Commission”) is seeking public comment on its proposal to extend for an additional three years the Office of Management and Budget clearance for information collection requirements in its rule governing Care Labeling of Textile Wearing Apparel and Certain Piece Goods As Amended (“Care Labeling Rule”). This clearance expires on June 30, 2024.

DATES: Comments must be filed by June 10, 2024.

ADDRESSES: Interested parties may file a comment online or on paper, by following the instructions in the Request for Comment part of the SUPPLEMENTARY INFORMATION section below. Write “Care Labeling Rule, PRA Comment, P085405,” on your comment, and file your comment online at https://www.regulations.gov by following the instructions on the web-based form. If you prefer to file your comment on paper, mail your comment to the following address: Federal Trade Commission, Office of the Secretary, 600 Pennsylvania Avenue NW, Suite CC-5610 (Annex J), Washington, DC 20580.

FOR FURTHER INFORMATION CONTACT: Jock Chung, Attorney, Division of Enforcement, Bureau of Consumer Protection, Federal Trade Commission, (202) 326-2984, jchung@ftc.gov.

SUPPLEMENTARY INFORMATION:

Title of Collection: Care Labeling of Textile Wearing Apparel and Certain Piece Goods As Amended, 16 CFR part 423.

OMB Control Number: 3084-0103.

Type of Review: Extension of currently approved collection.

Affected Public: Private Sector: Businesses and other for-profit entities.

Estimated Annual Burden Hours: 27,489,476 hours.

Estimated Annual Labor Costs: $217,189,935.52.

Abstract:

The Care Labeling Rule requires manufacturers and importers of textile wearing apparel and certain piece goods to attach labels to their products disclosing the care needed for the ordinary use of the product. The Rule also requires manufacturers or importers to possess a reasonable basis for care instructions and allows the use of approved care symbols in lieu of words to disclose those instructions.

As required by section 3506(c)(2)(A) of the PRA, 44 U.S.C. 3506(c)(2)(A), the FTC is providing this opportunity for public comment before requesting that OMB extend the existing clearance for the information collection requirements contained in the Rule.

Burden statement:

Staff estimates that approximately 10,744 manufacturers or importers of textile apparel, producing about 18.4 billion textile garments annually, are subject to the Rule's disclosure requirements. Staff estimates the burden of determining care instructions to be 100 hours each year per firm, for a cumulative total of 1,074,400 hours. Staff further estimates that the burden of drafting and providing labels is 80 hours each year per firm, for a total of 859,520 hours. Staff believes that the process of attaching labels is fully automated and integrated into other production steps for about 50 percent (approximately 9.2 billion) of the approximately 18.4 billion garments that are required to have care instructions on permanent labels. For the remaining 9.2 billion items, the process is semi-automated and requires an average of approximately ten seconds per item, for a total of 25,555,556 hours per year. Thus, the total estimated annual burden for all firms is 27,489,476 hours.

The chart below summarizes the total estimated costs.

Task | Hourly rate | Burden hours | Labor cost
Determine care instructions | ¹ $31.49 | 1,074,400 | $33,832,856.00
Draft and order labels | ² 19.47 | 859,520 | 16,734,854.40
Attach labels | ³ 6.52 | 25,555,556 | 166,622,225.12
Total |  |  | 217,189,935.52

Staff believes that there are no current start-up costs or other capital costs associated with the Care Labeling Rule. Because the labeling of textile products has been an integral part of the manufacturing process for decades, manufacturers have in place the capital equipment necessary to comply with the Rule's labeling requirements. Based on knowledge of the industry, staff believes that much of the information required by the Rule would be included on the product label even absent those requirements.

¹ The wage rate for supervisors of Office and Administrative Support Supervisors is based on data through May 2022 from the Bureau of Labor Statistics Occupational Employment Statistics Survey at https://www.bls.gov/news.release/ocwage.htm (released on April 25, 2023).

² The wage rate for Information and Record Clerks is based on recent data from the Bureau of Labor Statistics Occupational Employment Statistics Survey at https://www.bls.gov/news.release/ocwage.htm.

³ For imported products, the labels generally are attached in the country where the products are manufactured. According to information compiled by an industry trade association using data from the U.S. Department of Commerce, International Trade Administration, and the U.S. Census Bureau, approximately 97.1% of apparel used in the United States is imported. With the remaining 2.9% attributable to U.S. production at an approximate domestic hourly wage of $14.73 to attach labels, staff has calculated a weighted average hourly wage of $6.52 per hour attributable to U.S. and foreign labor combined.

Request for Comment

Pursuant to Section 3506(c)(2)(A) of the PRA, the FTC invites comments on: (1) whether the disclosure and recordkeeping requirements are necessary, including whether the information will be practically useful; (2) the accuracy of our burden estimates, including whether the methodology and assumptions used are valid; (3) ways to enhance the quality, utility, and clarity of the information to be collected; and (4) ways to minimize the burden of the collection of information.

For the FTC to consider a comment, we must receive it on or before June 10, 2024. Your comment, including your name and your state, will be placed on the public record of this proceeding, including the https://www.regulations.gov website.

You can file a comment online or on paper. Due to heightened security screening, postal mail addressed to the Commission will be subject to delay. We encourage you to submit your comments online through the https://www.regulations.gov website.

If you file your comment on paper, write “Care Labeling Rule, PRA Comment, P085405,” on your comment and on the envelope, and mail it to the following address: Federal Trade Commission, Office of the Secretary, 600 Pennsylvania Avenue NW, Suite CC-5610 (Annex J), Washington, DC 20580.

Because your comment will become publicly available at https://www.regulations.gov, you are solely responsible for making sure that your comment does not include any sensitive or confidential information. In particular, your comment should not include any sensitive personal information, such as your or anyone else's Social Security number; date of birth; driver's license number or other state identification number, or foreign country equivalent; passport number; financial account number; or credit or debit card number. You are also solely responsible for making sure that your comment does not include any sensitive health information, such as medical records or other individually identifiable health information. In addition, your comment should not include any “trade secret or any commercial or financial information which . . . is privileged or confidential”—as provided by Section 6(f) of the FTC Act, 15 U.S.C. 46(f), and FTC Rule 4.10(a)(2), 16 CFR 4.10(a)(2)—including, in particular, competitively sensitive information, such as costs, sales statistics, inventories, formulas, patterns, devices, manufacturing processes, or customer names.

Comments containing material for which confidential treatment is requested must (1) be filed in paper form, (2) be clearly labeled “Confidential,” and (3) comply with FTC Rule 4.9(c). In particular, the written request for confidential treatment that accompanies the comment must include the factual and legal basis for the request, and must identify the specific portions of the comment to be withheld from the public record. See FTC Rule 4.9(c). Your comment will be kept confidential only if the General Counsel grants your request in accordance with the law and the public interest. Once your comment has been posted publicly at www.regulations.gov, we cannot redact or remove your comment unless you submit a confidentiality request that meets the requirements for such treatment under FTC Rule 4.9(c), and the General Counsel grants that request.

The FTC Act and other laws that the Commission administers permit the collection of public comments to consider and use in this proceeding as appropriate. The Commission will consider all timely and responsive public comments that it receives on or before June 10, 2024. For information on the Commission's privacy policy, including routine uses permitted by the Privacy Act, see https://www.ftc.gov/site-information/privacy-policy.

Josephine Liu,
Assistant General Counsel for Legal Counsel.

[FR Doc. 2024-07569 Filed 4-9-24; 8:45 am]

BILLING CODE 6750-01-P